ENVIRONMENTAL PROTECTION AGENCY

[FRL-9952-60-OA]

Meetings of the Local Government Advisory Committee and the Small Communities Advisory Subcommittee (SCAS)

AGENCY: Environmental Protection Agency (EPA).

ACTION: Notice.

SUMMARY: The Small Communities Advisory Subcommittee (SCAS) will meet via teleconference on Friday, October 7, 2016 at 10:30 a.m.-11:30 a.m.. (ET). The Subcommittee will discuss recommendations for EPA's development of a national action plan on drinking water, with a focus on issues affecting agricultural, rural, and other small communities. This is an open meeting and all interested persons are invited to participate. The Subcommittee will hear comments from the public between 10:40 a.m.-10:55 a.m. on October 7, 2016. Individuals or organizations wishing to address the Subcommittee will be allowed a maximum of five minutes to present their point of view. Also, written comments should be submitted electronically to eargle.frances@epa.gov. Please contact the Designated Federal Officer (DFO) at the number listed below to schedule a time on the agenda. Time will be allotted on a first-come first-serve basis, and the total period for comments may be extended if the number of requests for presentations requires it.

The Local Government Advisory Committee (LGAC) will meet via teleconference on Friday, October 7, 2016, 11:30 a.m.-12:30 p.m. (ET). The Committee will discuss recommendations of the subcommittee and LGAC workgroups, including recommendations on EPA's development of a national action plan on drinking water.

+ This is an open meeting and all interested persons are invited to participate. The Committee will hear comments from the public between 11:45 a.m.-12:00 p.m. (ET) on Friday, October 7, 2016. Individuals or organizations wishing to address the Committee will be allowed a maximum of five minutes to present their point of view. Also, written comments should be submitted electronically to eargle.frances@epa.gov. Please contact the Designated Federal Officer (DFO) at the number listed below to schedule a time on the agenda. Time will be allotted on a first-come first-serve basis, and the total period for comments may be extended if the number of requests for presentations requires it.

ADDRESSES: EPA's Local Government Advisory Committee meetings will be held via teleconference. Meeting summaries will be available after the meeting online at www.epa.gov/ocir/scas_lgac/lgac_index.htm and can be obtained by written request to the DFO.

FOR FURTHER INFORMATION CONTACT: Local Government Advisory Committee (LGAC) contact Frances Eargle at (202) 564-3115 or email at eargle.frances@epa.gov.

Information Services for Those With Disabilities: For information on access or services for individuals with disabilities, please contact Frances Eargle at (202) 564-3115 or eargle.frances@epa.gov. To request accommodation of a disability, please request it 10 days prior to the meeting, to give EPA as much time as possible to process your request.

Jack Bowles,
Director, State and Local, EPA's Office of Congressional and Intergovernmental Relations.

[FR Doc. 2016-22633 Filed 9-19-16; 8:45 am]

BILLING CODE 6560-50-P